DEPARTMENT OF TRANSPORTATION

Federal Highway Administration

Environmental Impact Statement; Mahoning and Trumbull Counties, OH

AGENCY: Federal Highway Administration (FHWA), DOT.

ACTION: Notice of intent.

SUMMARY: The FHWA is issuing this notice to advise the public that an environmental impact statement will be prepared for a proposed project in Mahoning and Trumbull Counties, Ohio.

FOR FURTHER INFORMATION CONTACT: Andy Blalock, Program Delivery Engineer, Federal Highway Administration, 200 N. High Street, Suite 328, Columbus, Ohio 43215, telephone: (614) 280-6823.

SUPPLEMENTARY INFORMATION: The FHWA, in cooperation with the Ohio Department of Transportation (ODOT) and the Eastgate Regional Council of Governments (Eastgate), will prepare an environmental impact statement (EIS) on a proposal to improve the connection through the east side of the City of Youngstown and the west side of Hubbard Township with I-80, a major east-west interstate highway located approximately 6 miles north of the City center and I-680 to the south via the U.S. 62/S.R. 7 connector. Eastgate is the sponsor for this proposed action through the completion of the EIS process.

The overall purpose of the improvement is to: Promote future economic development; improve traffic flow; and increase safety and emergency access.

Alternatives under consideration include: (1) Taking no action; (2) constructing a highway on new alignment; (3) other alternatives that may be developed during the NEPA process. The alternative on new alignment is within a project study area of approximately one mile in width and six miles in length.

Letters describing the proposed action and soliciting comments will be sent to appropriate Federal, State and, local agencies, and to private organizations and citizens who have previously expressed or are known to have interest in this proposal. A series of public meetings has already been held in the project area. In addition, public hearing(s) will be held. Public notice will be given of the time and place of the hearing(s). The draft EIS will be available for public and agency review and comment prior to the public hearing. No formal scoping meeting is planned at this time.

To ensure that the full range of issues related to this proposed action are addressed and all significant issues identified, comments and suggestions are invited form all interested parties. Comments or questions concerning this proposed action and the EIS should be directed to the FHWA at the address provided above.

(Catalog of the Federal Domestic Assistance Program Number 20.205, Highway Planning and Construction. The regulations implementing Executive Order 12372 regarding intergovernmental consultation on Federal programs and activities apply to this program)
Issued on October 28, 2004.
Victoria Peters,
Director, Office of Engineering Operations, Federal Highway Administration, Columbus, Ohio.

[FR Doc. 04-24751 Filed 11-4-04; 8:45 am]

BILLING CODE 4910-22-M